DEPARTMENT OF THE INTERIOR

National Park Service

[NPS-WASO-NAGPRA-NPS0034562; PPWOCRADN0-PCU00RP14.R50000]

Notice of Inventory Completion: Nevada State Museum, Carson City, NV

AGENCY: National Park Service, Interior.

ACTION: Notice.

SUMMARY: The Nevada State Museum has completed an inventory of human remains in consultation with the appropriate Indian Tribes and has determined that there is no cultural affiliation between the human remains and any present-day Indian Tribes. Representatives of any Indian Tribe not identified in this notice that wish to request transfer of control of these human remains should submit a written request to the Nevada State Museum. If no additional requestors come forward, transfer of control of the human remains to the Indian Tribes stated in this notice may proceed.

DATES: Representatives of any Indian Tribe not identified in this notice that wish to request transfer of control of these human remains should submit a written request with information in support of the request to the Nevada State Museum at the address in this notice by October 20, 2022.

FOR FURTHER INFORMATION CONTACT: Nevada State Museum, 600 North Carson Street, Carson City, NV 89701, telephone (530) 249-5745 Ext. 261, email acamp@nevadaculture.org.

SUPPLEMENTARY INFORMATION: Notice is here given in accordance with the Native American Graves Protection and Repatriation Act (NAGPRA), 25 U.S.C. 3003, of the completion of an inventory of human remains under the control of the Nevada State Museum, Carson City, NV. The human remains were removed from the Town of Minden in Douglas County, NV.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Nevada State Museum professional staff in consultation with representatives of the Washoe Tribe of Nevada & California (Carson Colony, Dresslerville Colony, Woodfords Community, Stewart Community, & Washoe Ranches).

History and Description of the Remains

In 2010, human remains representing, at minimum, one individual were removed from a house in Douglas County, NV. In 2010, the human remains—crania and mandible fragments—were donated to the Nevada State Museum by an anonymous donor. Museum professionals analyzed the human remains and determined that the individual was Native American. The human remains belong to an individual of undetermined age and sex. No known individual was identified. No associated funerary objects are present.

Determinations Made by the Nevada State Museum

Officials of the Nevada State Museum have determined that:

• Pursuant to 25 U.S.C. 3001(9), the human remains described in this notice are Native American based on cranial morphology.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Washoe Tribe of Nevada & California (Carson Colony, Dresslerville Colony, Woodfords Community, Stewart Community, & Washoe Ranches).

• Treaties, Acts of Congress, or Executive Orders, indicate that the land from which the Native American human remains were removed is the aboriginal land of the Washoe Tribe of Nevada & California (Carson Colony, Dresslerville Colony, Woodfords Community, Stewart Community, & Washoe Ranches).

• Pursuant to 43 CFR 10.11(c)(1), the disposition of the human remains may be to the Washoe Tribe of Nevada & California (Carson Colony, Dresslerville Colony, Woodfords Community, Stewart Community, & Washoe Ranches).

Additional Requestors and Disposition

Representatives of any Indian Tribe not identified in this notice that wish to request transfer of control of these human remains should submit a written request with information in support of the request to Anna Camp, Nevada State Museum, Carson City, 600 North Carson Street, Carson City, NV 89701, telephone (775) 687-4810 Ext. 261, email acamp@nevadaculture.org, by October 20, 2022. After that date, if no additional requestors have come forward, transfer of control of the human remains to the Washoe Tribe of Nevada & California (Carson Colony, Dresslerville Colony, Woodfords Community, Stewart Community, & Washoe Ranches) may proceed.

The Nevada State Museum is responsible for notifying the Washoe Tribe of Nevada & California (Carson Colony, Dresslerville Colony, Woodfords Community, Stewart Community, & Washoe Ranches) that this notice has been published.

Dated: September 14, 2022.
Melanie O'Brien,
Manager, National NAGPRA Program.

[FR Doc. 2022-20297 Filed 9-19-22; 8:45 am]

BILLING CODE 4312-52-P